DEPARTMENT OF TRANSPORTATION

Surface Transportation Board

[STB Finance Docket No. 33943]

Progressive Rail, Inc.—Acquisition and Operation Exemption—Canadian Pacific Railway

Progressive Rail, Inc., a Class III rail carrier has filed a verified notice of exemption under 49 CFR 1150.41 to acquire from Canadian Pacific Railway (CPR) and operate CPR's Richfield Line located in Bloomington, Richfield and Minneapolis, MN. The track extends from Auto Club, MN, milepost 25.63, to end of track at Pleasant Avenue South and West 60th Street, Minneapolis, a distance of approximately 9.1 miles.

The transaction is scheduled to be consummated on December 1, 2000.

If the verified notice contains false or misleading information, the exemption is void ab initio. Petitions to reopen the proceeding to revoke the exemption under 49 U.S.C. 10502(d) may be filed at any time. The filing of a petition to revoke will not automatically stay the transaction.

An original and 10 copies of all pleadings, referring to STB Finance Docket No. 33943, must be filed with the Surface Transportation Board, Office of the Secretary, Case Control Unit, 1925 K Street, NW, Washington, DC 20423-0001. In addition, a copy of each pleading must be served on Mr. Dave Fellon, President, Progressive Rail, Inc., 21778 Highview Avenue, Lakeville, MN 55044.

Board decisions and notices are available on our website at “www.stb.dot.gov.”

Decided: November 22, 2000.
By the Board, David M. Konschnik, Director, Office of Proceedings.
Vernon A. Williams,
Secretary.

[FR Doc. 00-30520 Filed 11-29-00; 8:45 am]

BILLING CODE 4915-00-P